DEPARTMENT OF JUSTICE

Notice of Extension of Comment Period of Proposed Consent Decree Under the Clean Water Act

On May 17, 2019, the Department of Justice lodged a proposed consent decree with the United States District Court for the Western District of Washington in the lawsuit entitled United States v. Manke Lumber Company, Inc., Civil Action No. 3:17-cv-05257-RJB. The United States is hereby extending the public comment on this consent decree until July 5, 2019.

The United States, on behalf of the United States Environmental Protection Agency filed a Complaint against Manke Lumber Company, Inc. (Manke) alleging violations of the under the Clean Water Act (CWA). The Complaint alleges that Manke violated Section 301 of the Clean Water Act (“CWA”), 33 U.S.C. 1311; the conditions and limitations of the Industrial Stormwater General Permit (“General Permit”) issued to Manke by the Washington Department of Ecology (“Ecology”) under Section 402(a) of the CWA, 33 U.S.C. 1342(a); and the Spill Prevention, Control, and Countermeasure (“SPCC”) regulations promulgated by EPA pursuant to Section 311(j) of the CWA, 33 U.S.C. 1321(j) at its wood products facility in Tacoma, Washington.

The proposed Consent Decree provides for Manke to perform injunctive relief consisting of installation and implementation of stormwater treatment systems, as well as new environmental management system, training, and audits. The proposed Decree also requires that Manke pay a $320,000 penalty and perform a Supplemental Environmental Project (“SEP”).

The period for public comment on the consent decree began on May 23, 2019. With this notice the public comment period is being extended to July 5, 2019. Comments should be addressed to the Assistant Attorney General, Environment and Natural Resources Division, and should refer to entitled United States v. Manke Lumber Company, Inc., D.J. Ref. No. 90-5-1-1-11580. All comments must be submitted no later than July 5, 2019. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $36.75 (25 cents per page reproduction cost) payable to the United States Treasury. For a paper copy without the exhibits and signature pages, the cost is $14.75.

Susan M. Akers,
Assistant Section Chief, Environmental Enforcement Section, Environment and Natural Resources Division.

[FR Doc. 2019-13329 Filed 6-21-19; 8:45 am]

BILLING CODE 4410-15-P